DEPARTMENT OF COMMERCE

International Trade Administration

A-570-890

Notice of Extension of Time Limit for Final Results of New Shipper Reviews of Wooden Bedroom Furniture from the People's Republic of China

AGENCY: Import Administration, International Trade Administration, Department of Commerce.

EFFECTIVE DATE: November 14, 2006.

FOR FURTHER INFORMATION CONTACT: Lilit Astvatsatrian, AD/CVD Operations, Office 8, Import Administration, International Trade Administration, U.S. Department of Commerce, 14th Street and Constitution Avenue, NW, Washington, DC 20230; telephone: (202) 482-6412.

SUPPLEMENTARY INFORMATION:

Background

On July 6, 2006, the Department of Commerce (“the Department”) published the preliminary results of the new shipper reviews of the antidumping duty order on wooden bedroom furniture (“WBF”) from the People's Republic of China (“PRC”), covering the period June 24, 2004, through June 30, 2005, and the following exporters: Shenyang Kunyu Wood Industry Co., Ltd., Dongguan Landmark Furniture Products Ltd., Meikangchi (Nantong) Furniture Company Ltd, and WBE Industries (Hui-Yang) Co., Ltd. See Wooden Bedroom Furniture from the People's Republic of China: Preliminary Results of 2004-2005 Semi-Annual New Shipper Reviews and Notice of Final Rescission of One New Shipper Review, 71 FR 38373 (July 6, 2006) (“Preliminary Results”). On September 27, 2006, the Department published in the Federal Register a notice extending the time limit for the final results of the new shipper reviews from September 25, 2006, to November 9, 2006. See Notice of Extension of Time Limit for Final Results of New Shipper Reviews of Wooden Bedroom Furniture from the People's Republic of China, 71 FR 56475 (September 27, 2006).

Extension of Time Limits for Final Results

Section 751(a)(2)(B)(iv) of the Tariff Act of 1930, as amended (“the Act”), and 19 CFR 351.214(i)(1) require the Department to issue the final results of a new shipper review within 90 days after the date on which the preliminary results were issued. The Department may, however, extend the time period for completion of the final results of a new shipper review to 150 days if it determines that the case is extraordinarily complicated. See section 751(a)(2)(B)(iv) of the Act and 19 CFR 351.214(i)(2).

As a result of extraordinarily complicated issues raised in the review segment, specifically the multiple issues raised with regard to the calculation of the surrogate financial ratios based on the financial statements of seven surrogate companies, it is not practicable to complete these new shipper reviews within the current time limit. Accordingly, the Department is fully extending the time period for completion of the final results to 150 days, pursuant to section 751(a)(2)(B)(iv) of the Act and 19 CFR 351.214(I)(2). Therefore, the final results are now due no later than November 24, 2006.

We are issuing and publishing this notice in accordance with section 751(a)(2)(B) and 777(i)(1) of the Act.

Dated: November 6, 2006.
Stephen J. Claeys,
Deputy Assistant Secretary for Import Administration.

[FR Doc. E6-19184 Filed 11-13-06; 8:45 am]

BILLING CODE 3510-DS-S